DEPARTMENT OF ENERGY

Federal Energy Regulatory Commission

Combined Notice of Filings #1

Take notice that the Commission received the following Complaints and Compliance filings in EL Dockets:

Docket Numbers: EL23-40-000.

Applicants: American Electric Power Service Corp., et al. v. Southwest Power Pool, Inc.

Description: Complaint of American Electric Power Service Corp., et al v. Southwest Power Pool, Inc.

Filed Date: 2/10/23.

Accession Number: 20230210-5219.

Comment Date: 5 p.m. ET 3/2/23.

Take notice that the Commission received the following electric rate filings:

Docket Numbers: ER21-2871-001.

Applicants: Midcontinent Independent System Operator, Inc., Pioneer Transmission LLC.

Description: Compliance filing: Midcontinent Independent System Operator, Inc. submits tariff filing per 35: 2023-02-13_Pioneer Supplemental Order 864 Compliance to be effective1/27/2020.

Filed Date: 2/13/23.

Accession Number: 20230213-5103.

Comment Date: 5 p.m. ET 3/6/23.

Docket Numbers: ER22-93-003.

Applicants: Tatanka Ridge Wind, LLC.

Description: Compliance filing: Settlement Compliance Filing to be effective 1/1/2022.

Filed Date: 2/13/23.

Accession Number: 20230213-5112.

Comment Date: 5 p.m. ET 3/6/23.

Docket Numbers: ER23-423-001.

Applicants: PJM Interconnection, L.L.C.

Description: Tariff Amendment: Response to Deficiency Notice RE Hill Energy Resources Termination Filing to be effective 1/17/2023.

Filed Date: 2/13/23.

Accession Number: 20230213-5102.

Comment Date: 5 p.m. ET 3/6/23.

Docket Numbers: ER23-718-001.

Applicants: Public Service Company of Colorado.

Description: Tariff Amendment: 2022 Production Ministerial Filing—Amendment to be effective 1/1/2023.

Filed Date: 2/13/23.

Accession Number: 20230213-5000.

Comment Date: 5 p.m. ET 3/6/23.

Docket Numbers: ER23-1103-000.

Applicants: Cleco Cajun LLC.

Description: Request for Limited Waiver, et al. of Cleco Cajun LLC.

Filed Date: 2/10/23.

Accession Number: 20230210-5183.

Comment Date: 5 p.m. ET 2/21/23.

Docket Numbers: ER23-1104-000.

Applicants: AEP Texas Inc.

Description: § 205(d) Rate Filing: AEPTX-BCEC-GSEC Sisseton Facility Development Agreement to be effective 1/25/2023.

Filed Date: 2/13/23.

Accession Number: 20230213-5085.

Comment Date: 5 p.m. ET 3/6/23.

Docket Numbers: ER23-1105-000.

Applicants: Mitsui & Co. Energy Marketing and Services (USA), Inc.

Description: § 205(d) Rate Filing: Category status update normal filing to be effective 2/14/2023.

Filed Date: 2/13/23.

Accession Number: 20230213-5092.

Comment Date: 5 p.m. ET 3/6/23.

Docket Numbers: ER23-1106-000.

Applicants: Basin Electric Power Cooperative.

Description: § 205(d) Rate Filing: Basin Electric Member Interconnection and Misc Service Agreements to be effective 7/16/2020.

Filed Date: 2/13/23.

Accession Number: 20230213-5111.

Comment Date: 5 p.m. ET 3/6/23.

Docket Numbers: ER23-1107-000.

Applicants: PJM Interconnection, L.L.C.

Description: § 205(d) Rate Filing: Original NSA, SA No. 6783; Queue Nos. AC1-222 and AD1-055 to be effective 1/13/2023.

Filed Date: 2/13/23.

Accession Number: 20230213-5125.

Comment Date: 5 p.m. ET 3/6/23.

Docket Numbers: ER23-1108-000.

Applicants: Front Range-Midway Solar Project, LLC.

Description: Petition for Limited Waiver of Front Range-Midway Solar Project, LLC.

Filed Date: 2/9/23.

Accession Number: 20230209-5158.

Comment Date: 5 p.m. ET 2/23/23.

Take notice that the Commission received the following electric securities filings:

Docket Numbers: ES23-36-000.

Applicants: Horizon West Transmission, LLC.

Description: Application Under Section 204 of the Federal Power Act for Authorization to Issue Securities of Horizon West Transmission, LLC.

Filed Date: 2/9/23.

Accession Number: 20230209-5156.

Comment Date: 5 p.m. ET 3/2/23.

Take notice that the Commission received the following public utility holding company filings:

Docket Numbers: PH23-5-000.

Applicants: Citizens Energy Corporation.

Description: Citizens Energy Corporation submits FERC 65-B Notice of Change in Fact to Waiver Notification.

Filed Date: 2/8/23.

Accession Number: 20230208-5134.

Comment Date: 5 p.m. ET 3/1/23.

The filings are accessible in the Commission's eLibrary system (https://elibrary.ferc.gov/idmws/search/fercgensearch.asp) by querying the docket number.

Any person desiring to intervene or protest in any of the above proceedings must file in accordance with rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 13, 2023.
Debbie-Anne A. Reese,
Deputy Secretary.

[FR Doc. 2023-03428 Filed 2-16-23; 8:45 am]

BILLING CODE 6717-01-P